DEPARTMENT OF JUSTICE

Notice of Lodging of Proposed Consent Decree Under the Comprehensive Environmental Response Compensation and Liability Act

On December 19, 2024, the Department of Justice lodged a proposed Consent Decree with the United States District Court for the Western District of Virginia in the lawsuit entitled United States and Commonwealth of Virginia, Secretary of Natural and Historic Resources v. FMC Corporation, Civil Action No. 5:24-CR-108.

The lawsuit was initiated by a complaint filed by the United States and the Commonwealth of Virginia (the “Trustees”) in their capacity as the legally designated trustees for natural resources in Virginia. The complaint alleged, inter alia, that the Defendant was liable for damages for injury to, destruction of, or loss of natural resources resulting from the release of hazardous substances at and from the Avtex Fibers, Inc. Site (the “Site”) in Front Royal, Virginia, pursuant to three statutes: the Comprehensive Environmental Response, Compensation and Liability Act of 1980, the Virginia State Water Control Law, and the Virginia Waste Management Act.

The Consent Decree resolves the claims of the Trustees against the Defendant for a total payment of $1,674,361. Of this amount, $1,393,219 will be paid into the United States' Natural Resource Damages Assessment and Restoration “(NRDAR”) Fund managed by the U.S. Department of the Interior, which will reimburse the Department's natural resource damages assessment activities and fund projects aimed at restoring the injured natural resources at the Site. The remaining $281,142 will be paid to the Commonwealth of Virginia for restoration of injured natural resources arising from groundwater contamination at the Site, and to reimburse the Commonwealth's natural resource damages assessment costs. In addition, as part of the settlement the United States will pay $2,496,305 into the NRDAR Fund to support restoration projects. This latter amount will resolve the alleged liability of four settling federal agencies—the U.S. Department of Defense, the Department of Commerce, the General Services Administration, and the National Aeronautics and Space Administration—that allegedly contributed to the natural resource damages incurred at and from the Site. In return for these payments, the United States and the Commonwealth will confer on the Defendant and the settling federal agencies covenants not to sue for natural resource damages known or reasonably ascertainable as of the date of lodging of the Consent Decree.

The publication of this notice opens a period for public comment on the proposed Consent Decree. Comments should be addressed to the Assistant Attorney General, Environment and Natural Resources Division, and should refer to United States and Commonwealth of Virginia, Secretary of Natural and Historic Resources v. FMC Corporation, D.J. Ref. No. 90-11-3-10912. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the proposed Consent Decree may be examined and downloaded at this Justice Department website: https://www.justice.gov/enrd/consent-decree/us-et-al-v-fmc-corporation. If you require assistance accessing the proposed Consent Decree, you may request assistance by email or by mail to the addresses provided above for submitting comments.

Jason A. Dunn,
Assistant Section Chief, Environmental Enforcement Section, Environment and Natural Resources Division.

[FR Doc. 2024-30882 Filed 12-27-24; 8:45 am]

BILLING CODE 4410-15-P